DEPARTMENT OF COMMERCE

Office of the Secretary

[Docket No. 060615168-6168-01]

Privacy Act of 1974: System of Records

AGENCY: Department of Commerce

ACTION: Notice of Amendment of Privacy Act System of Records: COMMERCE/DEPARTMENT-18, Employees Personnel Files Not Covered by Notices of Other Agencies.

SUMMARY: In accordance with the Privacy Act of 1974, as amended, 5 U.S.C. 552a(e)(4) and (11), the Department of Commerce is issuing notice of intent to amend the system of records under COMMERCE/DEPARTMENT-18, Employees Personnel Files Not Covered by Notices of Other Agencies. This amendment adds to this system those records compiled in conjunction with the Department of Commerce's Student Loan Repayment Program (SLRP), Continuity of Operations Plan (COOP), Automated Notification System, and the Employee Emergency Call Center. We invite public comment on the proposed changes in this publication.

DATES: To be considered, written comments must be submitted on or before August 7, 2006. Unless comments are received, the amendments to the system of records will become effective as proposed on the date of publication of a subsequent notice in the Federal Register.

FOR FURTHER INFORMATION CONTACT: Brenda Dolan, Departmental Freedom of Information and Privacy Act Officer, U.S. Department of Commerce, Washington, DC 20230, 202-482-3258.

ADDRESSES: Comments may be mailed to Brenda Dolan, Departmental Freedom of Information and Privacy Act Officer, Office of Management and Organization, Room 5327, 1401 Constitution Avenue, NW., Washington, DC 20230. Comments may be submitted electronically to the following electronic mail address: bdolan1@doc.gov.

SUPPLEMENTARY INFORMATION: This amendment adds to the subject system those files containing records compiled in accordance with 5 U.S.C. 5379; 5 CFR Part 537; DAO 202-957.

COMMERCE/DEPARTMENT-18

System Name: *

Security Classification:

None.

System Location:

After ‘n. For any records regarding the Workforce Assessment Database: The Office of Acquisition Management, U.S. Department of Commerce, Room 6422, Washington, DC 20230.’ add ‘o. For any emergency notification system records: The Office of Security, U.S. Department of Commerce, Room 1069, Washington, DC 20230.’

Categories of Individuals Covered by the System:

After ‘Applicants, current and former employees.’ add ‘Volunteers, grantees, contract employees, and occupants of Commerce facilities, on whom the agency maintains records, may also be covered by this system.’

Categories of Records in the System:

After ‘employee certifications, warrants, education and contact for Workforce Assessment Tool Database.’ add ‘; Student Loan Repayment Program (SLRP) records; Continuity of Operations Plan (COOP) records; Automated Notification System records, and Employee Emergency Call Center records.’

Authority for maintenance of the system:

After ‘41 U.S.C. 433(d)’ add ‘; 5 U.S.C. 5379; 5 CFR Part 537; DAO 202-957; E.O. 12656; Federal Preparedness Circular (FPC) 65, July 26, 1999; DAO 210-110’

Purpose(s): *

Routine uses of records maintained in the system, including categories of users and the purposes of such uses: *

Disclosure to Consumer Reporting Agencies: *

Policies and Practices for Storing, Retrieving, Accessing, Retaining, and Disposing of Records in the System: *

Storage: *

Retrievability: *

Safeguards: *

Retention and Disposal: *

System Manager(s) and Address: *

Notification Procedure:

Delete ‘For records at location m and n,’ add ‘For records at location m, n and o,’

Record Access Procedures: *

Contesting Record Procedures: *

Record Source Categories: *

Exemptions Claimed for the System:

None.

* Indicates that there are no changes to that paragraph of the notice.

Dated: June 16, 2006.
Brenda Dolan,
Departmental Freedom of Information and Privacy Act Officer.

[FR Doc. E6-10543 Filed 7-5-06; 8:45 am]

BILLING CODE 3510-BW-P